COMMISSION ON CIVIL RIGHTS

Agenda and Notice of Public Meeting of the Pennsylvania Advisory Committee

Notice is hereby given, pursuant to the provisions of the rules and regulations of the U.S. Commission on Civil Rights, that a meeting of the Pennsylvania Advisory Committee to the Commission will convene at 10 a.m. and adjourn at 12:30 p.m. on August 5, 2002, at the Mayor's Meeting Room “Conversation Hall” (room 201), City Hall, Philadelphia, Pennsylvania 19107. The Advisory Committee will hold a press conference to release its report, Barriers Facing Minority and Women Owned Businesses in Pennsylvania.

Persons desiring additional information, or planning a presentation to the Committee, should contact Marc Pentino of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, July 10, 2002.
Ivy L. Davis,
Chief, Regional Programs Coordination Unit.

[FR Doc. 02-18055 Filed 7-17-02; 8:45 am]

BILLING CODE 6335-01-P